NATIONAL SCIENCE FOUNDATION

Advisory Committee for Geosciences; Notice of Meeting

In accordance with the Federal Advisory Committee Act (Pub. L. 92-463, as amended), the National Science Foundation announces the following meeting:

Name: Advisory Committee for Geosciences (1755).

Dates: October 9, 2013, 8:30 a.m.-5:00 p.m.; October 10, 2013, 8:30 a.m.-1:30 p.m.

Place: Stafford I, Room 1235, National Science Foundation, 4201 Wilson Blvd. Arlington, Virginia 22230.

Type of Meeting: Open.

Contact Person: Melissa Lane, National Science Foundation, Suite 705, 4201 Wilson Blvd, Arlington, Virginia 22230. Phone 703-292-8500.

Minutes: May be obtained from the contact person listed above.

Purpose of Meeting: To provide advice, recommendations, and oversight on support for geoscience research and education including atmospheric, geo-space, earth, ocean and polar sciences.

Agenda

October 9, 2013

• Meeting with the Acting Director.

• Directorate and NSF activities and plans.

• Topical subcommittees on education/diversity, facilities, research and cyber-infrastructure.

• COV reports.

October 10, 2013

• Discussion of NSF Education Programs.

• Division Subcommittee meetings.

• Action Items/Planning for Fall Meeting.

Dated: September 11, 2013.
Susanne Bolton,
Committee Management Officer.

[FR Doc. 2013-22425 Filed 9-13-13; 8:45 am]

BILLING CODE 7555-01-P